DEPARTMENT OF HEALTH AND HUMAN SERVICES

Request for Comments on the Draft HHS Scientific Integrity Policy

AGENCY: Office of the Secretary, Office of the Assistant Secretary for Planning and Evaluation, HHS.

ACTION: Notice request for comment (RFC).

SUMMARY: The Department of Health and Human Services (HHS) is seeking public comment on its draft Scientific Integrity Policy through the Department of Health and Human Services website at https://www.hhs.gov/programs/research/scientificintegrity.

DATES: Submit comments on or before September 1, 2023.

ADDRESSES: Written comments can be provided by email, Fax, or U.S. mail.

Email: scientificintegrity@hhs.gov.

Fax: (202) 690-5882.

Mail: U.S. Department of Health and Human Services, Office of the Assistant Secretary for Planning and Evaluation, Office of Science and Data Policy, Attn: Scientific Integrity Comments, 200 Independence Avenue SW, Room 429E, Washington, DC 20201.

FOR FURTHER INFORMATION CONTACT: Casey Sullivan, (202) 205-8189.

SUPPLEMENTARY INFORMATION: The draft Department of Health and Human Services Scientific Integrity Policy is provided as part of implementation of the Presidential Memorandum on Restoring Trust in Government Through Scientific Integrity and Evidence-based Policymaking,¹ to ensure that Agency stakeholders are given an opportunity to comment on this policy.

¹ https://www.whitehouse.gov/briefing-room/presidential-actions/2021/01/27/memorandum-on-restoring-trust-in-government-through-scientific-integrity-and-evidence-based-policymaking/.

HHS developed the draft Scientific Integrity Policy (the draft policy) based on the National Science and Technology Council Framework for Federal Scientific Integrity Policy and Practice.² The draft policy includes specific provisions prohibiting political interference, ensuring independent review of scientific activities, facilitating the free flow of scientific information, prohibiting suppression or delay of scientific findings for non-scientific reasons, forbidding censorship or alteration of scientific findings, and protecting against retaliation. The draft policy also establishes clear procedures for reporting and handling allegations of scientific integrity violations, including those involving alleged political interference.

² https://www.whitehouse.gov/wp-content/uploads/2023/01/01-2023-Framework-for-Federal-Scientific-Integrity-Policy-and-Practice.pdf.

This public comment request is an opportunity for HHS to refine and strengthen the draft policy. We look forward to receiving your comments by September 1, 2023. The text of the draft policy is available through the Department of Health and Human Services website at https://www.hhs.gov/programs/research/scientificintegrity. Following public comment, HHS's final Scientific Integrity Policy will be published on the HHS website by February 2024. The website will include a mechanism for reporting allegations of loss of scientific integrity in HHS work.

For those who may not have internet access, a hard copy can be requested from the contact point, Casey Sullivan, (202) 205-8189.

Sharon Arnold,
Associate Deputy Assistant Secretary, Office of Science and Data Policy, Office of the Assistant Secretary for Planning and Evaluation.

[FR Doc. 2023-15408 Filed 7-19-23; 8:45 am]

BILLING CODE 4150-05-P